DEPARTMENT OF THE INTERIOR

Minerals Management Service

[Docket No. MMS-2008-OMM-0020]

Notice of Nominations Received and Proposed Limited Alternative Energy Leases on the Outer Continental Shelf (OCS) and Initiation of Coordination and Consultation; Correction

AGENCY: Minerals Management Service (MMS), Interior.

ACTION: Notice; Correction.

SUMMARY: The MMS published a Notice in the Federal Register on Friday, April 18, 2008 (73 FR 21152), announcing proposed areas of the OCS for limited alternative energy leasing and requesting indications of competitive interest in such proposed lease areas. That original Notice also requested public comment on the areas proposed for limited leasing. This correction Notice corrects the table in the original Notice identifying the proposed lease areas for alternative energy resource data collection and technology testing activities on the Outer Continental Shelf (OCS).

DATES: This correction is effective immediately upon publication of this Notice. The 30-day and 60-day comment periods identified in the original Notice shall be deemed to commence upon the publication of this correction Notice.

FOR FURTHER INFORMATION CONTACT: Ms. Maureen Bornholdt, Minerals Management Service, Offshore Minerals Management, 381 Elden Street, Mail Stop 4080, Herndon, Virginia 20170-4817, (703) 787-1300.

Technical Correction

Correction. The table provided in our original notice dated Friday, April 18, 2008, incorrectly identified the boundaries of some proposed lease areas. The table below accurately describes the areas of proposed leasing for alternative energy resource data collection and technology testing activities on the OCS. The locations of proposed OCS alterative energy limited leasing are described as follows:

Adjacent state | Official protraction diagram | Block(s) | Resource
1. New Jersey | Hudson Canyon NJ 18-03 | 6451 | Wind.
2. New Jersey | Wilmington NJ 18-02 | 6936 | Wind.
3. New Jersey | Wilmington NJ 18-02 | 7131 | Wind.
4. New Jersey | Wilmington NJ 18-02 | 6931 | Wind.
5. New Jersey | Wilmington NJ 18-02 | 6738 | Wind.
6. New Jersey | Wilmington NJ 18-02 | 7033 | Wind.
7. Delaware | Salisbury NJ 18-05 | 6325 | Wind.
8. Georgia | Brunswick NH 17-02 | 6074 | Wind.
9. Georgia | Brunswick NH 17-02 | 6174 | Wind.
10. Georgia | Brunswick NH 17-02 | 6126 | Wind.
11. Florida | Bahamas NG 17-06 | 7103 | Current.
12. Florida | West Palm Beach NG 17-05 | 7040 and 7090 | Current.
| Bahamas NG 17-06 | 7001, 7002, 7003, 7004, 7005, 7006, 7007, 7051, 7052, 7053, 7054, 7055, 7056, 7057, 7104, 7105, 7106, and 7107
13. Florida | Bahamas NG 17-06 | 6702, 6703, 6704, 6705, 6706, 6707, and 6708 | Current.
14. Florida | Miami NG 17-08 | 6040 | Current.
| Bimini NG 17-09 | 6001
15. California | Ukiah NJ 10-02 | 6405, 6455, 6456, 6504, 6505, 6506, 6554, 6555, 6604, 6605, 6654, 6655, 6704, and 6705 | Wave.
16. California | Eureka NK 10-10 | 6031, 6032, 6033, 6080, 6081, 6082, 6083, 6130, 6131, 6132, 6133, 6179, 6180, 6181, 6182, 6229, 6230, 6231, 6232, 6279, 6280, 6281, 6330, and 6331 | Wave.

The above locations refer to areas identified on the Official Protraction Diagrams that are available from each MMS regional office and online at http://www.mms.gov/ld/Maps.htm, and the areas are identified as OCS blocks that are generally nine square miles in size. The nominated areas may be located on those maps or on a map viewer maintained by MMS at http://www.mms.gov/offshore/RenewableEnergy/WebMappingViewer.htm.

Dated: April 21, 2008.
Chris C. Oynes,
Associate Director for Offshore Minerals Management.

[FR Doc. E8-9466 Filed 4-29-08; 8:45 am]

BILLING CODE 4310-MR-P